DEPARTMENT OF ENERGY

Federal Energy Regulatory Commission

[Project No. 6731-015]

Coneross Power Corporation; Notice of Application Accepted for Filing, Soliciting Motions To Intervene and Protests, Ready for Environmental Analysis, and Soliciting Comments, Terms and Conditions, Recommendations, and Prescriptions

Take notice that the following hydroelectric application has been filed with the Commission and is available for public inspection.

a. Type of Application: Subsequent Minor License.

b. Project No.: 6731-015.

c. Date filed: February 28, 2019.

d. Applicant: Coneross Power Corporation.

e. Name of Project: Coneross Hydroelectric Project.

f. Location: The Coneross Hydroelectric Project is located on Coneross Creek, in Oconee County, South Carolina. The project does not occupy Federal lands.

g. Filed Pursuant to: Federal Power Act 16 U.S.C. 791(a)-825(r)

h. Applicant Contact: Mr. Kevin Webb, Hydro Licensing Manager, Enel Green Power North America, Inc., 100 Brickstone Square, Suite 300, Andover, MA 01810; (978) 935-6039; Kevin.Webb@enel.com.

i. FERC Contact: Jeanne Edwards, (202) 502-6181, or jeanne.edwards@ferc.gov.

j. Deadline for filing motions to intervene and protest, comments, terms and conditions, recommendations, and prescriptions: 60 days from the issuance of this notice; reply comments are due 105 days from the issuance date of this notice.

The Commission strongly encourages electronic filing. Please file motions to intervene and protests, comments, terms and conditions, recommendations, and prescriptions using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY).

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

l. The existing Coneross Project consists of: (1) An existing 288-foot-long, 25-foot-high concrete dam with a 123-foot-long, 20-foot-wide concrete spillway with 1.5-foot-high flashboards; (2) an existing nine-acre reservoir having a gross storage capacity of 13.5 acre-feet at elevation 746.5 feet mean sea level; (3) a 780-foot-long, 8-foot-diameter concrete penstock with an 8-foot-wide and 8-foot-high intake gate and a 25-foot-long, 19-foot-deep trash rack structure with 2.0-inch clear bar spacing; (4) a powerhouse containing three generating units (two Kaplan hydro turbines and one Francis hydro turbine) for a total installed capacity of 889 kilowatts; (5) a 95-foot-long tailrace; (6) a 1,300-foot-long bypassed reach between the dam and the tailrace; (7); an existing 93-foot-long, 12.47-kilovolt transmission line; and (8) appurtenant facilities. The average annual generation was 2,215,800 kilowatt-hours for the period 2008 to 2017.

The Coneross Project is operated in a modified run-of-river mode using automatic pond level control of the turbine-generator units to: (1) Minimize fluctuations of the impoundment surface elevation; and (2) maintain the impoundment elevation within 6 inches of the spillway flashboard crest from March 1 through June 30, and within 18 inches of the flashboard crest from July 1 through the end of February. The project bypasses approximately 1,300 feet of Coneross Creek. A 36-cubic feet per second (cfs) minimum flow is continuously released into Coneross Creek downstream of the project tailrace. In addition, a continuous minimum flow release of 35 cfs, or inflow, whichever is less, is released into the Coneross bypassed reach from February 1 to May 31, and 25 cfs, or inflow, whichever is less, is released to the bypassed reach from June 1 to January 31. The bypassed reach minimum flow is provided through a sluice gate in the west non-overflow section of the dam.

m. In addition to publishing the full text of this notice in the Federal Register, the Commission provides all interested persons an opportunity to view and/or print the contents of this notice, as well as other documents in the proceeding (e.g., license application) via the internet through the Commission's Home Page (http://www.ferc.gov) using the eLibrary link. Enter the docket number (P-6731) to access the document. At this time, the Commission has suspended access to the Commission's Public Reference Room, due to the proclamation declaring a National Emergency concerning the Novel Coronavirus Disease (COVID-19), issued by the President on March 13, 2020. For assistance, contact FERC at FERCOnlineSupport@ferc.gov or call toll-free, (886) 208-3673 or (202) 502-8659 (TTY).

You may also register online at http://www.ferc.gov/docs-filing/esubscription.asp to be notified via email of new filings and issuances related to this or other pending projects. For assistance, contact FERC Online Support.

n. Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must: (1) Bear in all capital letters the title PROTEST, MOTION TO INTERVENE, NOTICE OF INTENT TO FILE COMPETING APPLICATION, COMPETING APPLICATION, COMMENTS, REPLY COMMENTS, RECOMMENDATIONS, TERMS AND CONDITIONS, or PRESCRIPTIONS; (2) set forth in the heading the name of the applicant and the project number of the application to which the filing responds; (3) furnish the name, address, and telephone number of the person protesting or intervening; and (4) otherwise comply with the requirements of 18 CFR 385.2001 through 385.2005. All comments, recommendations, terms and conditions, or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

o. A license applicant must file no later than 60 days following the date of issuance of this notice: (1) A copy of the water quality certification; (2) a copy of the request for certification, including proof of the date on which the certifying agency received the request; or (3) evidence of waiver of water quality certification.

p. Procedural schedule: The application will be processed according to the following schedule. Revisions to the schedule will be made as appropriate.

Commission issued EA—November 2020

Comments on EA—December 2020

Dated: April 21, 2020.
Kimberly D. Bose,
Secretary.

[FR Doc. 2020-08911 Filed 4-27-20; 8:45 am]

BILLING CODE 6717-01-P